DEPARTMENT OF COMMERCE

National Oceanic and Atmospheric Administration

RIN 0648-BB57

Pacific Fishery Management Council; Notice of Intent

AGENCY: National Marine Fisheries Service (NMFS), National Oceanic and Atmospheric Administration (NOAA), Commerce.

ACTION: Notice of intent to prepare an environmental impact statement (EIS); request for comments; notice of public scoping meetings.

SUMMARY: NMFS and the Pacific Fishery Management Council announce their intent to prepare an EIS in accordance with the National Environmental Policy Act (NEPA) of 1969 to analyze the impacts on the human (biological, physical, social, and economic) environment of setting harvest specifications (including Overfishing Limits (OFLs), Acceptable Biological Catches (ABCs), and Annual Catch Limits (ACLs)) and management measures for 2013 and 2014, pursuant to the Pacific Coast Groundfish Fishery Management Plan.

DATES: Public scoping will be conducted through regular meetings of the Pacific Fishery Management Council and its advisory bodies continuing through the June 2012 meeting (see http://www.pcouncil.org/council-operations/council-meetings/future-meetings/). Written comments on the scope of the analysis will be accepted through December 14, 2011 (see SUPPLEMENTARY INFORMATION). Written, faxed or emailed comments must be received by 5 p.m. Pacific Daylight time on December 14, 2011.

ADDRESSES: You may submit comments, on issues and alternatives, identified by 0648-BB57 by any of the following methods:

• Email GroundfishSpex2013-14@noaa.gov. Include RIN 0648-BB57 and enter Scoping Comments in the subject line of the message.

• Fax: (503) 820-2299, Attention Kit Dahl.

• Mail: Dr. Donald McIsaac, Pacific Fishery Management Council, 7700 NE Ambassador Pl., Suite 101, Portland, OR 97220, Attention Kit Dahl.

NMFS will accept anonymous comments. You may submit attachments to electronic comments in Microsoft Word, Excel, WordPerfect, or Adobe PDF file formats only.

FOR FURTHER INFORMATION CONTACT: Kit Dahl, Pacific Fishery Management Council, phone: (503) 820-2280, fax: (503) 820-2299 and Email: kit.dahl@noaa.gov; or Sarah Biegel, NMFS Northwest Region NEPA; email: Sarah.T.Biegel@noaa.gov.

Electronic Access

This Federal Register document is available on the Government Printing Office's Web site at: http://www.gpoaccess.gov/fr/index/html.

SUPPLEMENTARY INFORMATION:

Background for Agency Action

There are more than 90 species managed under the Pacific Coast Groundfish Fishery Management Plan (Groundfish FMP). These groundfish stocks support an array of commercial, recreational, and Indian tribal fishing interests in state and Federal waters off the coasts of Washington, Oregon, and California. In addition, groundfish are also harvested incidentally in non-groundfish fisheries, most notably, the trawl fisheries for pink shrimp and California halibut.

The amount of each Pacific Coast groundfish species or species complex that is available for harvest in a specific year is referred to as an Annual Catch Limit (ACL). The groundfish fishery regulations also include a collection of management measures intended to keep the total catch of each groundfish species or species complex at or below the ACL. The Groundfish harvest specifications and management measures are set at least biennially.

The Proposed Action

The proposed action is to use the “best available scientific information,” to implement harvest specifications (including OFLs, ABCs, and ACLs) for calendar years 2013 and 2014 for species and species' complexes managed under the Groundfish FMP, and to implement new management measures to address conservation concerns and other objectives identified in the FMP. The intent is that 2014 harvest specifications will remain in place until replaced by the 2015 specifications and management measures. The specifications must be consistent with requirements of the Magnuson-Stevens Fishery Conservation and Management Act (MSA), particularly the 10 National Standards enumerated in section 301(a) of the MSA, the Groundfish FMP, and other applicable law. Eight Pacific Coast groundfish species are currently “overfished” and managed under rebuilding plans. Rebuilding plans must rebuild the stock in a time period that is as short as possible, taking into account the status and biology of the stock, the needs of fishing communities, recommendations by international organizations in which the United States participates, and the interaction of the overfished stock within the marine ecosystem.

The Council will also establish 2-year allocations of catch opportunity for stocks or stock complexes in cases where fixed allocations are not specified in the Groundfish FMP. The proposed action includes management measures designed to keep total catch at or below ACLs. Management measures may be established for each year of the 2-year period or shorter periods, and the types of measures usually differ among groundfish fishery sectors. Management measures intended to control the rate at which different groundfish species or species groups are taken in the fisheries include trip limits, bag limits, size limits, time/area closures, and gear restrictions. Under Amendment 20 to the Groundfish FMP, Individual Fishing Quotas and allocations replace cumulative trip limits as the primary catch control tool for limited entry trawl vessels targeting groundfish species and delivering to shoreside processors and for the at-sea whiting sector respectively.

Alternatives

NEPA requires that agencies evaluate reasonable alternatives to the proposed action in an EIS, which address the purpose and need for agency action. The Council is scheduled to adopt a preliminary range of alternatives for analysis and public review at its November 1-7, 2011, meeting. Alternatives include different ACLs for appropriate fishery management units, allocation of fishing opportunity among various fishery participants, and associated management measures. ACLs may reflect modifications to current rebuilding plans for one or more overfished species if necessary. The Council is scheduled to choose a preferred alternative at its June 21-26, 2012, meeting.

Preliminary Identification of Environmental Issues

A principal objective of the scoping and public input process is to identify potentially significant impacts to the human environment that should be analyzed in depth in the EIS. If, during the preparation of this EIS, NMFS determines that a finding of no significant impact can be supported, it may prepare an Environmental Assessment (EA) and issue a retraction of this notice. Alternatively, NMFS may still continue with the preparation of an EIS. Information and analysis prepared for this action also may be used when scoping future groundfish harvest specifications and management measure actions to help decide whether to prepare an EA or EIS.

Public Scoping Process

Public scoping will occur throughout the Council's decision-making process. All decisions during the Council process benefit from written and oral public comments delivered prior to or during the Council meeting. These public comments are considered integral to scoping for developing this EIS. The Council began considering the proposed action at their September and November 2011 meetings. Council meetings in 2012 that offer additional opportunities for public involvement include: The April 1-6 meeting in Seattle Washington (Sheraton Seattle Hotel, 1400 Sixth Avenue, Seattle, WA 98101), and the June 21-26 meeting in San Mateo California (San Mateo Marriott, 1770 South Amphlett Boulevard, San Mateo, CA 94402). For further information on these meetings, visit the Council's Web site, http://www.pcouncil.org/council-operations/council-meetings/future-meetings/.

Special Accommodations

The meetings are physically accessible to people with disabilities. Requests for sign language interpretation or other auxiliary aids should be directed to Kris Klienshmidt Kris.Kleinschmidt@noaa.gov (503) 820-2280 at least 5 days prior to the meeting date.

Authority: 16 U.S.C. 1801 et seq.

Dated: November 7, 2011.
Steven Thur,
Acting Director, Office of Sustainable Fisheries, National Marine Fisheries Service.

[FR Doc. 2011-29323 Filed 11-10-11; 8:45 am]

BILLING CODE 3510-22-P